NEIGHBORHOOD REINVESTMENT CORPORATION

Audit Committee Sunshine Act Meeting

Time and Date: 1:30 p.m., Wednesday, February 17, 2016.

Place: NeighborWorks America—Gramlich Boardroom, 999 North Capitol Street NE., Washington, DC 20002.

Status: Open (with the exception of Executive Sessions).

Contact Person: Jeffrey Bryson, General Counsel/Secretary, (202) 760-4101; jbryson@nw.org.

AGENDA:

I. Call to Order

II. Status Update from the External Auditor

III. Executive Session with the External Auditor

IV. Executive Session with the Chief Audit Executive

V. Executive Session: Pending Litigation

VI. Internal Audit Reports with Management's Response

VII. Internal Audit Status Reports

VIII. Compliance Update

IX. OHTS Watch List Review

X. Adjournment

The General Counsel of the Corporation has certified that in his opinion, one or more of the exemptions set forth in 5 U.S.C. 552b(c)(4) permit closure of the following portions of this meeting:

• Executive Session with the External Auditor

• Executive Session with the Chief Audit Executive

• Executive Session—Pending Litigation

Jeffrey T. Bryson,
EVP & General Counsel/Corporate Secretary.

[FR Doc. 2016-02944 Filed 2-9-16; 4:15 pm]

BILLING CODE 7570-02-P